DEPARTMENT OF COMMERCE

International Trade Administration

Critical Infrastructure Protection and Cyber Security Trade Mission to Saudi Arabia and Kuwait Clarification and Amendment

AGENCY: International Trade Administration, Department of Commerce.

ACTION: Notice.

SUMMARY: The United States Department of Commerce, International Trade Administration, U.S. and Foreign Commercial Service (CS) is publishing this supplement to the Notice of the Renewable Energy and Energy Efficiency Executive Business Development Mission, 78 FR 6807, January 31, 2013, to clarify eligibility and amend the Notice to revise the dates and provide for selection of applicants on a rolling basis.

SUPPLEMENTARY INFORMATION:

Amendments To Revise the Dates and Provide for Selection of Applicants on a Rolling Basis

Background

Recruitment for this Mission began at the end of January, and some pending applicants have indicated a need to finalize their schedules and travel arrangements for the July/summer holidays. We would like to extend the recruitment deadline until mid-July to allow them time to apply and to more easily vet all applicants and make selection decisions, CS is amending the Notice to allow for vetting and selection decisions on a rolling basis until July 15, 2013, until the maximum of 20 participants is selected, all interested U.S. IT and cyber-security firms and trade organizations which have not already submitted an application are encouraged to do so as soon as possible.

Amendments

1. For the reasons stated above, the Selection Timeline section of the Notice of the Renewable Energy and Energy Efficiency Executive Business Development Mission, 78 FR 6807, January 31, 2013, is amended to read as follows:

Selection Timeline

Mission recruitment will be conducted in an open and public manner, including publication in the Federal Register, posting on the Commerce Department trade mission calendar (http://www.ita.doc.gov/doctm/tmcal.html) and other Internet Web sites, press releases to general and trade media, direct mail, notices by industry trade associations and other multiplier groups, and publicity at industry meetings, symposia, conferences, and trade shows. The U.S. Department of Commerce will begin reviewing applications and making selection decisions on a rolling basis beginning on January 28, 2013 until the maximum of 20 participants is selected. Applications received after July 15, 2013 will be considered only if space and scheduling constraints permit.

FOR FURTHER INFORMATION CONTACT: Jessica Dulkadir, Project Officer, Phone: 202-482-2026, Email: saudimission2013@trade.gov.

Elnora Moye,
Trade Program Assistant.

[FR Doc. 2013-15786 Filed 7-1-13; 8:45 am]

BILLING CODE 3510-FP-P